DEPARTMENT OF TRANSPORTATION

Federal Aviation Administration

Notice of Intent To Request Revision From the Office of Management and Budget of a Currently Approved Information Collection Activity, Request for Comments; Type Certification Procedures for Changed Products

AGENCY: Federal Aviation Administration (FAA), DOT.

ACTION: Notice and request for comments.

SUMMARY: The FAA invites public comments about our intention to request the Office of Management and Budget (OMB) to approve a current information collection. This rule may require applicants to comply with the latest regulations in effect on the date of application for amended Type Certificates (TC) or a Supplemental TCs for aeronautical products.

DATES: Please submit comments by August 28, 2006.

FOR FURTHER INFORMATION CONTACT: Carla Mauney on (202) 267-9895, or by e-mail at: Carla.Mauney@faa.gov.

SUPPLEMENTARY INFORMATION:

Federal Aviation Administration (FAA)

Title: Type Certification Procedures for Changed Products.

Type of Request: Revision of an approved collection.

OMB Control Number: 2120-0657.

Form(s): There are no FAA forms associated with this collection.

Affected Public: A total of 2558 Respondents.

Frequency: The information is collected as needed.

Estimated Average Burden per Response: Approximately 7.35 hours per response.

Estimated Annual Burden Hours: An estimated 18,815 hours annually.

Abstract: This rule may require applicants to comply with the latest regulations in effect on the date of application for amended Type Collection (TC) or a Supplemental TCs for aeronautical products. They now may incur an additional incremental administrative cost to determine the level of significance of the product change.

ADDRESSES: Send comments to the FAA at the following address: Ms. Carla Mauney, Room 1033, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 23, 2006.
Carla Mauney,
FAA Information Collection Clearance Officer, Information Systems and Technology Services Staff, ABA-20.

[FR Doc. 06-5749 Filed 6-27-06; 8:45 am]

BILLING CODE 4910-13-M